DEPARTMENT OF DEFENSE

Department of the Navy

Notice of Intent To Prepare an Environmental Impact Statement (EIS) for Optimizing Current and Future Operations, Training and Maintenance at the Beaches of Naval Amphibious Base (NAB) Coronado and Naval Radio Receiving Facility (NRRF) Imperial Beach and To Announce Public Scoping Meetings

AGENCY: Department of the Navy, DOD.

ACTION: Notice.

SUMMARY: The Department of the Navy (Navy) announces its intent to prepare an Environmental Impact Statement (EIS) to evaluate the environmental effects of current and future operations, training and maintenance at the beaches of Naval Amphibious Base Coronado, “NAB”, Naval Radio Receiving Facility Imperial Beach, “NRRF”, and within the fenced compound at NRRF.

DATES AND ADDRESSES: Public scoping open houses will be held to receive oral and/or written comments on environmental concerns that should be addressed in the EIS. Public scoping open houses will be held from 7:00 to 8:30 p.m. the following dates and locations: Tuesday, August 28, 2001 at the Coronado Public Library (Winn Room), 640 Orange Avenue, Coronado, CA; Wednesday, August 29, 2001 at Bayside Elementary School, 490 Emory Street, Imperial Beach, CA.

FOR FURTHER INFORMATION CONTACT: Ms. Jenny Boyd, South Bay Area Focus Team, Southwest Division, Naval Facilities Engineering Command, 2585 Callagan Highway, Building 99, San Diego, CA 92136-5198, telephone (619) 556-8589.

SUPPLEMENTARY INFORMATION: Pursuant to section 102(2)(c) of the National Environmental Policy Act (NEPA) of 1969, as implemented by the Council on Environmental Quality Regulations (40 CFR Parts 1500-1508), the Department of the Navy (Navy) announces its intent to prepare an Environmental Impact Statement (EIS) to evaluate the environmental effects of current and future operations, training and maintenance at the beaches of Naval Amphibious Base Coronado, “NAB”, Naval Radio Receiving Facility Imperial Beach, “NRRF”, and within the fenced compound at NRRF.

NAB Coronado is the only Navy amphibious base on the West Coast. It includes 5,500 yards of Pacific Ocean and bayside beachfront that is used for training. This area, along with 2,000 yards of Pacific Ocean beachfront at NRRF, provide operators with 7,500 yards of expansive beaches, unique topography, and on-base facilities that encompass a critical area for amphibious and clandestine training in support of littoral, unconventional, and special warfare operations.

The proposed action is to allocate operations and training between NAB and NRRF in a manner that optimizes use of those facilities while protecting threatened and endangered species. Operationally realistic training at NAB and NRRF is critical to military mission readiness requirements. However, due to the Navy's on-going, successful resource management program, threatened and endangered biological resources are thriving on the beaches at NAB Coronado. This poses a problem for scheduling required training because the increase in least tern and snowy plover populations is decreasing the size of beachfront available for crucial training and the time during which it is available.

NAB has reviewed its current and future operations, training and maintenance requirements as well as the training needs of tenant commands and other commands in Southern California that use the training facilities at NAB. The EIS will address three alternatives (including the No Action Alternative) for optimizing training at NAB and NRRF based on that internal review.

The No Action Alternative would continue current levels of operations at NAB and NRRF and utilize natural resource management strategies identified in NAB's natural resource management plan. While most operations and training currently are conducted at NAB, a limited number of amphibious training operations are conducted at NRRF. Specific operations are delineated for each location. Current operations delineated for NAB include Warfare Training (amphibious assaults and combat training, clandestine shore assaults, mine countermeasures, navigation/surf handling training, SCUBA training, ship surveillance) and Strategic Sealift Training (Elevated Causeway System Training) on the Pacific Ocean beachfront. Current bayside operations also include Warfare Training (amphibious assaults and clandestine shore assaults) and Strategic Sealift Training (ELCAS, amphibious assault bulk fuel/water systems). NAB also supports several training area users that have unique training requirements. One of the larger users is the Marine Corp's Expeditionary Warfare Training Group, Pacific. Their primary mission is to conduct warfare training courses for expeditionary and amphibious operations with emphasis on landing force operations using amphibious platforms. Current operations delineated for NRRF include inflatable landing craft, practice assault beaching and underwater navigation techniques. Current resource management strategies will continue with the habitat maintenance practice of predator control, decoy placement, beach maintenance, and coning off Western snowy plover nests on the beaches at NAB. It will also continue using the formal scheduling process for training operations.

Alternative One proposes a more integrated use of NAB and NRRF for current operations as well as the addition of new types of operations at NAB and NRRF. Under Alternative One, all 7,500 yards of beach area at NAB and NRRF would be available to support current operations. This alternative recognizes the dynamic that exists between operational uses and protection of natural resources. As the most significant natural resource issues at NAB involve nesting and foraging, location and timing of operations are critical considerations. Training operations often conflict with nesting season of growing least tern and snowy plover populations. Alternative One would provide operators with the option of training at NAB or NRRF during nesting season and would address the complete range of impacts of training at both NAB and NRRF.

Rather than a rigid matrix that pairs specific operations with a specific location, Alternative One proposes that decisions on the location of operations be based upon the ability of the location to handle a given type and level of operations at a given time of year. This would allow greater flexibility for year round use of NAB and NRRF. The following operations are included under Alternative One: Warfare Training, Strategic Sealift Training, and landing force operations currently conducted at NAB; inflatable landing craft, practice assault beaching, and underwater navigation techniques currently conducted at NRRF; and new operations consisting of mine disabling training in San Diego Bay along the NAB shoreline; new operations consisting of ordnance disposal training and land reconnaissance exercises on the beach and within the fenced compound at NRRF.

In addition to the current habitat maintenance practice of predator control, decoy placement, beach maintenance, coning off Western snowy plover nests and using a formal scheduling procedure, Alternative One proposes to incorporate coning off California least tern nests and clearly delineating beach-crossing lanes.

Alternative Two proposes to relocate the majority of current Warfare Training, Strategic Sealift Training, and landing force operations from NAB to NRRF during nesting season. Current operations involving inflatable landing craft, practice assault beaching, and underwater navigation techniques would continue at NRRF. Alternative Two also includes: the addition of mine disabling training in San Diego Bay along the NAB shoreline, new ordnance disposal training, and land reconnaissance exercises on the beach and within the fenced compound at NRRF. Alternative Two also proposes the additional habitat maintenance practices of coning off California least tern nests and clearly delineating beach-crossing lanes, as proposed in Alternative One at NAB.

In addition to analyzing impacts on the full range of natural, biological, and cultural resources, the EIS will examine aesthetic and socioeconomic issues, management practices for California least tern and Western snowy plover nesting habitat avoidance, and management practices for the salt marsh bird's beak.

To facilitate preparation of its EIS, the Navy has initiated this scoping process. The purpose of the scoping process is to identify community concerns and local issues that should be addressed. Federal, state, and local agencies, elected officials, non-governmental organizations, and interested persons are encouraged to attend scheduled scoping meetings and provide comments on the scope of issues to be addressed in the EIS. Scoping comments that clearly describe specific issues or topics are particularly helpful.

All comments not received at the scheduled public meetings must be in writing and must be postmarked by September 14, 2001. Comments should be mailed or faxed to: Southwest Division, Naval Facilities Engineering Command, Attn: Ms. Jenny Boyd, South Bay Area Focus Team, 2585 Callagan Highway, Building 99, San Diego, CA 92136-5198, fax (619) 556-8929.

Dated: July 30, 2001.
T.J. Welsh,
Lieutenant Commander, Judge Advocate General's Corps, U.S. Navy, Federal Register Liaison Officer.

[FR Doc. 01-19613 Filed 8-3-01; 8:45 am]

BILLING CODE 3810-FF-P